DEPARTMENT OF COMMERCE

National Oceanic and Atmospheric Administration

50 CFR Part 622

[Docket No. 131231999-4319-01]

RIN 0648-XD331

Fisheries of the Caribbean, Gulf of Mexico, and South Atlantic; 2014 Commercial Accountability Measure and Closure for Blueline Tilefish in the South Atlantic Region

AGENCY: National Marine Fisheries Service (NMFS), National Oceanic and Atmospheric Administration (NOAA), Commerce.

ACTION: Temporary Rule; Closure.

SUMMARY: NMFS implements accountability measures (AMs) for commercial blueline tilefish in the exclusive economic zone (EEZ) of the South Atlantic. Commercial landings for blueline tilefish, as estimated by the Science and Research Director, are projected to reach the commercial annual catch limit (ACL) on June 23, 2014. Therefore, NMFS is closing the commercial sector for blueline tilefish in the South Atlantic EEZ on June 23, 2014, and it will remain closed until the start of the next fishing season, January 1, 2015. This closure is necessary to protect the blueline tilefish resource.

DATES: This rule is effective 12:01 a.m., local time, June 23, 2014, until 12:01 a.m., local time, January 1, 2015.

FOR FURTHER INFORMATION CONTACT: Catherine Hayslip, telephone: 727-824-5305, email: Catherine.Hayslip@noaa.gov.

SUPPLEMENTARY INFORMATION: The snapper-grouper fishery of the South Atlantic includes blueline tilefish and is managed under the Fishery Management Plan for the Snapper-Grouper Fishery of the South Atlantic Region (FMP). The FMP was prepared by the South Atlantic Fishery Management Council and is implemented under the authority of the Magnuson-Stevens Fishery Conservation and Management Act (Magnuson-Stevens Act) by regulations at 50 CFR part 622.

Given new stock assessment results that indicated the blueline tilefish stock is overfished and undergoing overfishing in the South Atlantic, NMFS published an emergency rule (79 FR 21636, April 17, 2014) to remove blueline tilefish from the deep-water complex and establish separate commercial and recreational ACLs and AMs for blueline tilefish in the EEZ of the South Atlantic. That emergency rule implemented a commercial ACL for blueline tilefish in the South Atlantic of 112,207 lb (50,896 kg), round weight and established in-season AMs for blueline tilefish to prevent the catch limit from being exceeded. The emergency rule (79 FR 21636, April 17, 2014) is effective April 17, 2014, through October 14, 2014, unless superseded by subsequent rulemaking. NMFS may extend the rule's effectiveness for an additional 186 days pursuant to the Magnuson-Stevens Act.

Under 50 CFR 622.193(aa)(1), NMFS is required to close the commercial sector for blueline tilefish when the commercial ACL is reached, or is projected to be reached, by filing a notification to that effect with the Office of the Federal Register. NMFS has determined that the commercial ACL for South Atlantic blueline tilefish will have been reached by June 23, 2014. Accordingly, the commercial sector for South Atlantic blueline tilefish is closed effective 12:01 a.m., local time, June 23, 2014, until 12:01 a.m., local time, January 1, 2015.

The operator of a vessel with a valid commercial vessel permit for South Atlantic snapper-grouper having blueline tilefish onboard must have landed and bartered, traded, or sold such blueline tilefish prior to 12:01 a.m., local time, June 23, 2014. During the closure, all sale or purchase of blueline tilefish is prohibited and harvest or possession of blueline tilefish in or from the South Atlantic EEZ is limited to the bag and possession limits specified in 50 CFR 622.187(b)(2) and 622.187(c)(1), respectively. These bag and possession limits apply in the South Atlantic on board a vessel for which a valid Federal commercial or charter vessel/headboat permit for South Atlantic snapper-grouper has been issued, without regard to where such species were harvested, i.e., in state or Federal waters. The prohibition on sale or purchase does not apply to the sale or purchase of blueline tilefish that were harvested, landed ashore, and sold prior to 12:01 a.m., local time, June 23, 2014, and were held in cold storage by a dealer or processor.

Classification

The Regional Administrator, Southeast Region, NMFS, has determined this temporary rule is necessary for the conservation and management of blueline tilefish and the South Atlantic snapper-grouper fishery and is consistent with the Magnuson-Stevens Act, the FMP, and other applicable laws.

This action is taken under 50 CFR 622.193(aa)(1) and is exempt from review under Executive Order 12866.

These measures are exempt from the procedures of the Regulatory Flexibility Act because the temporary rule is issued without opportunity for prior notice and comment.

This action responds to the best available scientific information recently obtained from the fishery. The Assistant Administrator for Fisheries, NOAA, (AA), finds that the need to immediately implement this action to close the commercial sector for blueline tilefish constitutes good cause to waive the requirements to provide prior notice and opportunity for public comment pursuant to the authority set forth in 5 U.S.C. 553(b)(B), as such procedures would be unnecessary and contrary to the public interest. Such procedures would be unnecessary because the rule itself has been subject to notice and comment, and all that remains is to notify the public of the closure.

Allowing prior notice and opportunity for public comment is contrary to the public interest because of the need to immediately implement this action to protect blueline tilefish since the capacity of the fishing fleet allows for rapid harvest of the commercial ACL. Prior notice and opportunity for public comment would require time and would potentially result in a harvest well in excess of the established commercial ACL.

For the aforementioned reasons, the AA also finds good cause to waive the 30-day delay in the effectiveness of this action under 5 U.S.C. 553(d)(3).

Authority: 16 U.S.C. 1801 et seq.

Dated: June 17, 2014.
Emily H. Menashes,
Acting Director, Office of Sustainable Fisheries, National Marine Fisheries Service.

[FR Doc. 2014-14461 Filed 6-17-14; 4:15 pm]

BILLING CODE 3510-22-P